DEPARTMENT OF COMMERCE

National Oceanic and Atmospheric Administration

50 CFR Part 622

[Docket No. 120815345-3525-02]

RIN 0648-XD495

Snapper-Grouper Fishery of the South Atlantic; 2014 Recreational Accountability Measure and Closure for the South Atlantic Porgy Complex

AGENCY: National Marine Fisheries Service (NMFS), National Oceanic and Atmospheric Administration (NOAA), Commerce.

ACTION: Temporary rule; closure.

SUMMARY: NMFS implements accountability measures (AMs) for the recreational porgy complex in the exclusive economic zone (EEZ) of the South Atlantic. In the South Atlantic, the porgy complex includes jolthead porgy, knobbed porgy, whitebone porgy, scup, and saucereye porgy. Because recreational landings for the porgy complex in the 2013 fishing year exceeded the recreational annual catch limit (ACL) for the complex NMFS monitored recreational landings in 2014 for a persistence in increased landings. Through this temporary rule NMFS now closes the recreational sector for the porgy complex in the South Atlantic EEZ on September 17, 2014, as the recreational ACL has been projected to have been met for the 2014 fishing year. This closure is necessary to protect the porgy complex resource.

DATES: This rule is effective 12:01 a.m., local time, September 17, 2014, until 12:01 a.m., local time, January 1, 2015.

FOR FURTHER INFORMATION CONTACT: Catherine Hayslip, telephone: 727-824-5305, or email: Catherine.Hayslip@noaa.gov.

SUPPLEMENTARY INFORMATION: The snapper-grouper fishery of the South Atlantic, which includes the porgy complex, is managed under the Fishery Management Plan for Snapper-Grouper Fishery of the South Atlantic Region (FMP). The FMP was prepared by the South Atlantic Fishery Management Council and is implemented under the authority of the Magnuson-Stevens Fishery Conservation and Management Act (Magnuson-Stevens Act) by regulations at 50 CFR part 622.

The recreational ACL for the porgy complex is 106,914 lb (48,495 kg), round weight. In accordance with regulations at 50 CFR 622.193(w)(2), if the recreational ACL is exceeded, the Assistant Administrator, NMFS (AA) will file a notification with the Office of the Federal Register to reduce the length of the following fishing season by the amount necessary to ensure landings do not exceed the recreational ACL in the following fishing year. In the 2013 fishing year, recreational landings were 117,293 lb (53,203 kg), round weight, and therefore exceeded the recreational ACL by 10,379 lb (4,708 kg), round weight. Initial 2014 landings projections indicated that the recreational ACL would be harvested on September 17, 2014. However, updated landings information received on September 11, 2014, indicates that the ACL has already been harvested. Therefore, this temporary rule implements the post-season AM to reduce the fishing season for the recreational porgy complex within the snapper-grouper fishery in 2014. As a result, the recreational sector for the porgy complex will be closed effective 12:01 a.m., local time, September 17, 2014.

During the closure, the bag and possession limit for the porgy complex in or from the South Atlantic EEZ is zero. The recreational sector for the porgy complex will reopen on January 1, 2015, the beginning of the 2015 recreational fishing season.

Classification

The Regional Administrator, Southeast Region, NMFS, has determined this temporary rule is necessary for the conservation and management of the South Atlantic porgy complex within the South Atlantic snapper-grouper fishery and is consistent with the Magnuson-Stevens Act, the FMP, and other applicable laws.

This action is taken under 50 CFR 622.193(w)(2) and is exempt from review under Executive Order 12866.

These measures are exempt from the procedures of the Regulatory Flexibility Act because the temporary rule is issued without opportunity for prior notice and comment.

This action responds to the best available scientific information recently obtained from the fishery. The AA finds that the need to immediately implement this action to close the recreational sector for the porgy complex constitutes good cause to waive the requirements to provide prior notice and opportunity for public comment pursuant to the authority set forth in 5 U.S.C. 553(b)(B), as such procedures would be unnecessary and contrary to the public interest. Such procedures would be unnecessary because the rule itself has been subject to notice and comment, and all that remains is to notify the public of the closure. Such procedures would be contrary to the public interest because there is a need to immediately notify the public of the reduced recreational fishing season for the porgy complex for the 2014 fishing year, to prevent recreational harvest of the porgy complex from further exceeding the ACL, which will help protect the South Atlantic porgy resource.

For the aforementioned reasons, the AA also finds good cause to waive the 30-day delay in the effectiveness of this action under 5 U.S.C. 553(d)(3).

Authority: 16 U.S.C. 1801 et seq.

Dated: September 12, 2014.
Emily H. Menashes,
Acting Director, Office of Sustainable Fisheries, National Marine Fisheries Service.

[FR Doc. 2014-22182 Filed 9-12-14; 4:15 pm]

BILLING CODE 3510-22-P